DEPARTMENT OF THE INTERIOR

Geological Survey

Agency Information Collection Activity; USGS National Coal Resources Data System (NCRDS)

AGENCY: United States Geological Survey (USGS).

ACTION: Notice of a new information collection.

SUMMARY: To comply with the Paperwork Reduction Act of 1995 (PRA), we are notifying the public that we will submit to the Office of Management and Budget (OMB) a new information collection request (ICR) for approval of the paperwork requirements for the National Coal Resources Data System (NCRDS). To submit a proposal for the NCRDS three standard OMB forms and project narrative must be completed and submitted via Grants.gov. This notice provides the public an opportunity to comment on the paperwork burden of these forms.

DATES: You must submit comments on or before July 13, 2009.

ADDRESSES: Please submit comments on this information collection directly to the Office of Management and Budget, Office of Information and Regulatory Affairs, Attention: Desk Officer for the Department of the Interior, via e-mail [OIRA_DOCKET@omb.eop.gov] or fax (202) 395-5806; and identify your submission as 1028-NEW. Please also submit a copy of your comments to Phadrea Ponds, USGS Information Collection Clearance Officer, 2150-C Center Avenue, Fort Collins, CO 80525 (mail); (970) 226-9230 (fax); or pponds@usgs.gov (e-mail). Please reference Information Collection 1028-NEW, NCRDS in the subject line.

FOR FURTHER INFORMATION CONTACT: Susan Tewalt by mail at U.S. Geological Survey, MS956 National Center, 12201 Sunrise Valley Drive, Reston, VA 20192 or by telephone at 703-648-6437.

SUPPLEMENTARY INFORMATION:

I. Abstract

The primary objective of the NCRDS is to advance the understanding of the energy endowment of the United States (U.S.) through the gathering and organization of digital geologic information related to coal, coalbed gas, shale gas and other energy resources. Standardized information on the location, quality, quantity, and availability of U.S. energy resources is necessary for policy makers to optimize energy development within an economic context; to implement wise land use planning, as well as to minimize environmental impacts from energy utilization. The primary partners, for the past 33 years of NCRDS, have been the State geological surveys, which function as the basic scientific information sources for their governments. Data submitted to NCRDS by States or Universities constitute more than two-thirds of USTRAT, a USGS point-source stratigraphic database on coal occurrence. This database provides the geologic basis for resource assessment calculations at federal and State levels. Assistance in other Energy Program research efforts is also provided by State survey geologists through the NCRDS cooperative agreements.

Awards to a State geological survey are through a competitive process via submittal to http://www.grants.gov. Although no mandate exists, dollars are matched or in-kind services provided at some level by the States. Data compilation and submittal are continuous, building onto prior years of work, thus multi-year proposals are submitted, but are funded annually based on availability. In 2009, NCRDS supported 26 projects in 23 States. The program is conducted under various authorities, including 30 U.S.C. 208-1, 42 U.S.C. 15801, and 43 U.S.C. 31 et seq.

II. Data

OMB Control Number: 1028-New.

Title: National Coal Resources Data System (NCRDS).

Respondent Obligation: Voluntary; necessary to receive benefits.

Frequency of Collection: Annually.

Estimated Annual Number of and Description of Respondents: 30 total State Geological Surveys or Universities are canvassed for a multi-year period.

Estimated Annual Number of Responses: 25.

Estimated Completion Time: 20 hours per response.

Estimated Annual Burden Hours: 750 hours.

Estimated Annual Reporting and Recordkeeping “Hour” Burden: We estimate the public reporting burden will average 20 hours per response. This includes time to develop project goals, write the statement of work, perform internal proposal reviews, and submit the proposal through grants.gov.

Estimated Annual Reporting and Recordkeeping “Non-Hour Cost”: There are no “non-hour cost” burdens associated with this collection of information.

III. Request for Comments

To comply with the public consultation process, we publish this Federal Register notice announcing that we will submit this ICR to OMB for approval. The notice provided the required 60-day public comment period. We invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at anytime. While you can ask us in your comment to withhold your personal identifying information from public review, we cannot guarantee that we will be able to do so.

Dated: May 7, 2009.
Brenda Pierce,
Program Coordinator, USGS Energy Resources Program.

[FR Doc. E9-11256 Filed 5-13-09; 8:45 am]

BILLING CODE 4311-AM-P